COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List a product and services to be furnished by nonprofit agencies employing persons who are blind or have other severe disabilities.

Comments Must Be Received On or Before: February 6, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION: This notice is published pursuant to 41 U.S.C. 47(a)(2) and 41 CFR 51-2.3. Its purpose is to provide interested persons an opportunity to submit comments on the proposed actions. If the Committee approves the proposed additions, the entities of the Federal Government identified in the notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List. Comments on this certification are invited.

Commenters should identify the statement(s) underlying the certification on which they are providing additional information.

End of Certification

The following product and services are proposed for addition to Procurement List for production by the nonprofit agencies listed:

Product

Product/NSN: Flat Highlighter, Yellow, 7520-01-201-7791.

NPA: Winston-Salem Industries for the Blind, Winston-Salem, North Carolina.

Contracting Activity: Office Supplies & Paper Products Acquisition Center, New York, New York.

Services

Service Type/Location: Base Supply Center & Individual Equipment Element, Hill Air Force Base, Utah.

NPA: Industries for the Blind, Inc., Milwaukee, Wisconsin.

Contracting Activity: Hill Air Force Base, Utah.

Service Type/Location: Commissary Shelf Stocking, Custodial & Warehousing, Offutt Air Force Base, Nebraska.

NPA: BH Services, Inc., Box Elder, South Dakota.

Contracting Activity: Defense Commissary Agency, Fort Lee, Virginia.

Service Type/Location: Custodial & Grounds Maintenance, Navy and Marine Corps Reserve Center, 314 Graves Mill Road, Lynchburg, Virginia.

NPA: Goodwill Industries of the Valleys, Inc., Salem, Virginia.

Contracting Activity: Naval Facilities Engineering Command Contracts, Norfolk, Virginia.

Service Type/Location: Laundry Service, Fort Eustis, Virginia.

NPA: Louise W. Eggleston Center, Inc., Norfolk, Virginia.

Contracting Activity: Army Contracting Agency/NRCC Installation Division, Fort Eustis, Virginia.

Service Type/Location: Laundry Service, Veterans Integrated Service Network (VISN12), Jesse Brown VA Medical Center, 820 S. Damen Avenue, Chicago, Illinois (and its Divisions at Lake Side and Crown Point), VA Medical Center, Hines, 5th & Roosevelt Road, Hines, Illinois.

NPA: Goodwill Industries of Southeastern Wisconsin, Inc., Milwaukee, Wisconsin.

Contracting Activity: VISN 12, Great Lakes Network, Milwaukee, Wisconsin.

Sheryl D. Kennerly,
Director, Information Management.

[FR Doc. 05-357 Filed 1-6-05; 8:45 am]

BILLING CODE 6353-01-U